DEPARTMENT OF TRANSPORTATION

Federal Railroad Administration

[Docket Number FRA-2013-0018]

Notice of Application for Approval of Discontinuance or Modification of a Railroad Signal System

In accordance with Part 235 of Title 49 Code of Federal Regulations (CFR) and 49 U.S.C. 20502(a), this document provides the public notice that by a document dated December 26, 2102, CSX Transportation, Inc. (CSX) seeks approval from the Federal Railroad Administration (FRA) for the discontinuance or modification of a signal system. FRA assigned the petition Docket Number FRA-2013-0018.

CSX proposes to discontinue the use of, and to remove, the pipe-connected approach-locked derails at the Aberdeen & Rockfish Railroad Company's (A&R) crossing at Milepost A210.62 in CSX's Florence Division, South End Subdivision, in Fayetteville, NC. A&R, which operates the intersecting rail line, has been notified of the modifications. CSX has been granted approval, through an application in Docket Number FRA-2010-0160, for other modifications that it will make to the signal system at the A&R crossing in preparation for the installation of Positive Train Control.

CSX intends to modernize this location by installing new microprocessor-based equipment, houses, and signals. The existing dwarf signals on A&R will be replaced with high signals for improved visibility and push-button operation. A one-way, low-speed diamond frog will also be installed at this location, limiting the speed on A&R to 10 mph or less.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 6, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on March 14, 2013.
Robert C. Lauby,
Deputy Associate Administrator for Regulatory and Legislative Operations.

[FR Doc. 2013-06364 Filed 3-19-13; 8:45 am]

BILLING CODE 4910-06-P